ENVIRONMENTAL PROTECTION AGENCY

[ER-FRL-9008-1]

Environmental Impacts Statements; Notice of Availability

Responsible Agency: Office of Federal Activities, General Information (202) 564-7146 or http://www.epa.gov/compliance/nepa/.

Weekly receipt of Environmental Impact Statements

Filed 02/25/2013 Through 03/01/2013

Pursuant to 40 CFR 1506.9.

Notice

Section 309(a) of the Clean Air Act requires that EPA make public its comments on EISs issued by other Federal agencies. EPA's comment letters on EISs are available at: http://www.epa.gov/compliance/nepa/eisdata.html.

EIS No. 20130049, Draft EIS, BR, CA, Upper Truckee River and Marsh Restoration Project, Comment Period Ends: 04/29/2013, Contact: Myrnie Mayville 775-588-4547.

EIS No. 20130050, Draft EIS, NPS, CA, Restoration of the Mariposa Grove of Giant Sequoias, Comment Period Ends: 05/07/2013, Contact: Kimball Koch 209-379-1365.

EIS No. 20130051, Final EIS, USFS, WA, Pack and Saddle Stock Outfitter-Guide Special Use Permit Issuance, Review Period Ends: 04/08/2013, Contact: Jennifer Zbyszewski 509-996-4021.

EIS No. 20130052, Draft EIS, BPA, ID, Hooper Springs Transmission Project, Comment Period Ends: 04/22/2013, Contact: Tish Eaton 503-230-3469.

EIS No. 20130053, Final EIS, DOE, TX, W.A. Parish Post-Combustion CO2 Capture and Sequestration Project, Review Period Ends: 04/08/2013, Contact: James Ward 202-586-6131.

EIS No. 20130054, Draft EIS, BLM, MT, Miles City Resource Management Plan, Comment Period Ends: 06/05/2013, Contact: Mary Bloom 406- 233-2852.

EIS No. 20130055, Final EIS, NPS, IA, Effigy Mounds National Monument Final General Management Plan, Review Period Ends: 04/08/2013, Contact: Jim Nepstad 563-873-3491.

EIS No. 20130056, Draft Supplement, DOS, 00, Keystone XL Project, Comment Period Ends: 04/22/2013, Contact: Genevieve Walker 202- 647-9798.

Amended Notices

EIS No. 20120403, Draft EIS, FHWA, ID, US-95 Thorncreek Road to Moscow, from Milepost 337.67 to Milepost 344.00, Latah County, ID, Comment Period Ends: 03/25/2013, Contact: John A. Perry 208-334-9180 extension 116 Revision to FR Notice Published 01/04/2013; Extending Comment Period to 03/25/2013.

EIS No. 20130015, Draft Supplement, FHWA, CA, Mid County Parkway, a new Freeway from the City of Perris to the City of San Jacinto, Riverside County, CA, Comment Period Ends: 04/10/2013, Contact: Larry Vinzant 916-498-5040 Revision to FR Notice Published 01/04/2013; Extending Comment Period to 03/25/2013.

EIS No. 20130018, Final EIS, BIA, WA, Spokane Tribe of Indians West Plains Casino and Mixed-Use Development Project, Approval of Gaming Development and Management, Spokane County, WA, Review Period Ends: 05/01/2013, Contact: Dr. B.J. Howerton 503-231-6749 Revision to FR Notice Published 02/01/2013; Extending Comment Period from 03/04/2013 to 05/01/2013.

Dated: March 5, 2013.
Cliff Rader,
Director, NEPA Compliance Division, Office of Federal Activities.

[FR Doc. 2013-05489 Filed 3-7-13; 8:45 am]

BILLING CODE 6560-50-P